DEPARTMENT OF TRANSPORTATION

Pipeline and Hazardous Materials Safety Administration

[PHMSA-2008-0075 (Notice No. 08-2)]

Hazardous Materials: Transport of Lithium Batteries; Notice of Public Meeting

AGENCY: Pipeline and Hazardous Materials Safety Administration (PHMSA), DOT.

ACTION: Notice of public meeting.

SUMMARY: This notice is to advise interested persons that PHMSA will conduct a public meeting to discuss the safe transportation of lithium batteries.

DATES: The public meeting will be Friday, April 11, 2008, starting at 9 a.m.

ADDRESSES: The meeting will be held at the U.S. DOT headquarters, Rooms 8-9-10—DOT Conference Center, 1200 New Jersey Ave., SE., Washington, DC 20590. The main visitor's entrance is located in the West Building, on New Jersey Avenue and M Street. For information on the facilities or to request special accommodations, please contact Kevin Leary at the telephone number listed under FOR FURTHER INFORMATION CONTACT below.

FOR FURTHER INFORMATION CONTACT: Kevin Leary, Office of Hazardous Materials Standards, telephone, 202-366-8553, Pipeline and Hazardous Materials Safety Administration, U.S. Department of Transportation, East Building, PHH-10, 1200 New Jersey Avenue, SE., Washington, DC 20590-0001.

SUPPLEMENTARY INFORMATION: On February 22, 2007, the Pipeline and Hazardous Materials Safety Administration (PHMSA) hosted a meeting of public and private sector stakeholders who share our interest in the safe transportation of batteries and battery-powered devices. The meeting included representatives of the National Transportation Safety Board (NTSB), the Federal Aviation Administration (FAA), the National Highway Traffic Safety Administration (NHTSA), battery and electronics manufacturers, the Air Transport Association (ATA), the Air Line Pilots Association (ALPA), and emergency responders. On the basis of the meeting we initiated a comprehensive strategy aimed at reducing the transportation risks posed by batteries of all types. PHMSA outlined the strategy in an action plan detailing a range of public and private sector measures designed to enhance safety standards, improve data collection and awareness, and otherwise reduce the risks of transporting batteries and battery-powered devices, with a special focus on aviation safety. PHMSA and the parties to the action plan have met repeatedly over the course of the last year and have made significant progress in meeting the action plan targets.

PHMSA believes that a follow-on public meeting would be useful at this time to review progress under the 2007 action plan and discuss necessary next steps. Although substantial effort and progress have been made since the February 2007 meeting, we believe additional steps should be taken to prevent a significant incident. While the safety record associated with the transportation of lithium batteries is very good, we continue to observe incidents in all modes of transport and are especially concerned about the risk of battery-related fires aboard aircraft. PHMSA is aware of more than 90 reports of transport incidents involving batteries and battery-powered devices; several of these have involved fires in an aircraft cabin. In cooperation with NTSB and FAA we are investigating a number of these incidents to determine their root cause and to identify effective measures to reduce risk. Based on the observed incidents and our investigations, we have identified several factors we believe are the primary cause of most of the battery incidents. These factors include: internal short circuits, external short circuits, improper charging or discharging, and non-compliance with current safety standards.

On December 17, 2007 and January 7, 2008, the National Transportation Safety Board (NTSB) issued a total of eight safety recommendations following its investigation of a February 7, 2006 hazardous materials incident at the Philadelphia International Airport. In that incident, United Parcel Service Company flight 1307 landed at the airport after a cargo smoke indication in the cockpit. The captain, first officer, and a flight engineer evacuated the airplane after landing, sustaining minor injuries. The airplane and most of the cargo were destroyed by a fire. NTSB determined that the probable cause of this accident was an in-flight cargo fire from an unknown source. The NTSB issued the following safety recommendations:

• Require aircraft operators to implement measures to reduce the risk of primary lithium batteries becoming involved in fires on cargo-only aircraft, such as transporting such batteries in fire resistant containers and/or in restricted quantities at any single location on the aircraft;

• Until fire suppression systems are required on cargo-only aircraft, as asked for in Safety Recommendation A-07-99, require that cargo shipments of secondary lithium batteries, including those contained in or packed with equipment, be transported in crew-accessible locations where portable fire suppression systems can be used;

• Require aircraft operators that transport hazardous materials to immediately provide consolidated and specific information about hazardous materials on board an aircraft, including proper shipping name, hazard class, quantity, number of packages, and location, to on-scene emergency responders upon notification of an accident or incident;

• Require commercial cargo and passenger operators to report to the Pipeline and Hazardous Materials Safety Administration all incidents involving primary and secondary lithium batteries, including those contained in or packed with equipment, that occur either on board or during loading or unloading operations and retain the failed items for evaluation purposes;

• Analyze the causes of all thermal failures and fires involving secondary and primary lithium batteries and, based on this analysis, take appropriate action to mitigate any risks determined to be posed by transporting secondary and primary lithium batteries, including those contained in or packed with equipment, on board cargo and passenger aircraft as cargo; checked baggage; or carry-on items;

• Eliminate regulatory exemptions for the packaging, marking, and labeling of cargo shipments of small secondary lithium batteries (no more than 8 grams equivalent lithium content) until the analysis of the failures and the implementation of risk-based requirements asked for in Safety Recommendation A-07-108 are completed;

• In collaboration with air carriers, manufacturers of lithium batteries and electronic devices, air travel associations, and other appropriate government and private organizations, establish a process to ensure wider, highly visible, and continuous dissemination of guidance and information to the air-traveling public, including flight crews, about the safe carriage of secondary (rechargeable) lithium batteries or electronic devices containing these batteries on board passenger aircraft; and

• In collaboration with air carriers, manufacturers of lithium batteries and electronic devices, air travel associations, and other appropriate government and private organizations, establish a process to periodically measure the effectiveness of your efforts to educate the air-traveling public, including flight crews, about the safe carriage of secondary (rechargeable) lithium batteries or electronic devices containing these batteries on board passenger aircraft.

During the April 11th meeting we plan to distribute and solicit feedback on a draft action plan identifying additional steps that will help to reduce the risk associated with the transport of lithium batteries, particularly in the air mode.

Topics to be covered during the public meeting include:

(1) Recent transportation incidents;

(2) Probable causes of battery incidents;

(3) NTSB recommendations;

(4) PHMSA/FAA activities; and

(5) Action plan with next steps/additional actions.

In addition, we plan to discuss the effectiveness of stakeholder partnerships in reducing the safety risks posed by the transportation of lithium batteries, ways to facilitate and foster additional stakeholder partnerships, and strategies for expanding the ongoing DOT public awareness campaign.

The public is invited to attend without prior notification. Due to the heightened security measures, participants are encouraged to arrive early to allow time for security checks necessary to obtain access to the building.

Issued in Washington, DC on March 28, 2008.
Theodore L. Willke,
Associate Administrator for Hazardous Materials Safety.

[FR Doc. E8-6923 Filed 4-2-08; 8:45 am]

BILLING CODE 4910-60-P